DEPARTMENT OF JUSTICE

Antitrust Division

Notice Pursuant to the National Cooperative Research and Production Act of 1993—Maritime Sustainment and Technology Innovation Consortium

Notice is hereby given that, on April 9, 2025, pursuant to section 6(a) of the National Cooperative Research and Production Act of 1993, 15 U.S.C. 4301 et seq. (“the Act”), Maritime Sustainment and Technology Innovation Consortium (“MSTIC”) has filed written notifications simultaneously with the Attorney General and the Federal Trade Commission disclosing changes in its membership. The notifications were filed for the purpose of extending the Act's provisions limiting the recovery of antitrust plaintiffs to actual damages under specified circumstances.

Specifically, Connecticut Center for Advanced Technology, Inc., East Hartford, CT; Velo3D, Inc., Fremont, CA; Edison Welding Institute, Inc., Columbus, OH; Hanwha Defense USA, Inc., McLean, VA; Defense Unicorns, Inc., Colorado Springs, CO; NCS Technologies, Inc., Manassas, VA; Product Development Associates, Inc., Burnsville, MN; Rapid Innovation & Security Experts, Inc., Colorado Springs, CO; Computer Conversions Corp., East Northport, NY; Gnostech LLC, Warminster, PA; Industry Defense Systems LLC, Lansdale, PA; AForge LLC, Lorton, VA; Ansys Government Initiatives, Inc., Exton, PA; One Off Robotics LLC, Chattanooga, TN; Einhorn Engineering PLLC, Seattle, WA; Marine Electric Systems, Inc., South Hackensack, NJ; Mikel, Inc., Middletown, RI; Stress Aerospace and Defense LLC, Houston, TX; Decryptor, Inc., Richardson, TX; Liburdi Turbine Services, Mooresville, NC; Defense Operations & Execution Solutions, Inc., West Melbourne, FL; Leslie Controls, Inc., Tampa, FL; McLaughlin Research Corp., New London, CT; MZA Associates Corp., Albuquerque, NM; RJA Technologies LLC, New York, NY; Nano Nuclear Energy, Inc., New York, NY; Chugach Information Technology, Inc., Anchorage, AK; Daniel H. Wagner Associates, Inc., Hampton, VA; and Olson Custom Designs LLC, Indianapolis, IN, have been added as parties to this venture.

Also, Progeny Systems LLC, Manassas, VA; Redfish Trading LLC, San Antonio, TX; Tapestry Solutions, Inc., San Diego, CA; Temple Allen Industries, Rockville, MD; Vigor Marine LLC, Portland, OR; Vitro Technology Corp., Austin, TX; BMT Designers & Planners, Arlington, VA; Design Automation Associates, Inc., Windsor Locks, CT; DMS South, Lancaster, TX; GSD LLC, Williamsburg, VA; Huckworthy LLC, Cape Charles, VA; Intelligent Automation, Rockville, MD; Iron EagleX, Inc., Tampa, FL; NanoVMs, Inc., San Francisco, CA; and Optiv, Denver, CO, have withdrawn as parties to this venture.

No other changes have been made in either the membership or planned activity of the group research project. Membership in this group research project remains open, and MSTIC intends to file additional written notifications disclosing all changes in membership.

On October 21, 2020, MSTIC filed its original notification pursuant to section 6(a) of the Act. The Department of Justice published a notice in the Federal Register pursuant to section 6(b) of the Act on November 19, 2020 (85 FR 73750).

The last notification was filed with the Department on January 10, 2025. A notice was published in the Federal Register pursuant to section 6(b) of the Act on February 28, 2025 (90 FR 10945).

Suzanne Morris,
Deputy Director Civil Enforcement Operations, Antitrust Division.

[FR Doc. 2025-06817 Filed 4-18-25; 8:45 am]

BILLING CODE P